DEPARTMENT OF ENERGY

Federal Energy Regulatory Commission

Notice of Application and Soliciting Comments, Motions To Intervene, and Protests

January 17, 2007.

Take notice that the following application has been filed with the Commission and is available for public inspection:

a. Application Type: Shoreline Management Plan.

b. Project No.: 619-134.

c. Date Filed: December 29, 2006.

d. Applicant: Pacific Gas and Electric Company.

e. Name of Project: Bucks Creek Hydroelectric Project.

f. Location: The project is located on Bucks Creek and Grizzly Creek, tributaries of the North Fork Feather River, in Plumas County, California, and on lands of the Plumas National Forest.

g. Filed Pursuant to: Federal Power Act, 16 U.S.C. 791(a)-825(r).

h. Applicant Contact: Mr. Bill Zemke, Senior License Coordinator, Pacific Gas and Electric Company, Mail Code N 11C, P.O. Box 770000, San Francisco, CA, (415) 973-1646.

i. FERC Contact: Any questions on this notice should be addressed to Lesley Kordella at (202) 502-6406, or by e-mail: lesley.kordella@ferc.gov.

j. Deadline for filing comments and/or motions: February 19, 2007.

All documents (original and eight copies) should be filed with: Ms. Magalie R. Salas, Secretary, Federal Energy Regulatory Commission, DHAC, PJ-12.1, 888 First Street, NE., Washington, DC 20426. Please include the project number (P-619-134) on any comments or motions filed. Comments, protests and interventions may be filed electronically via the Internet in lieu of paper. See, 18 CFR 385.2001(a)(1)(iii) and the instructions on the Commission's Web site under the “e-Filing” link. The Commission strongly encourages electronic filings.

k. Description of Proposal: The licensee submitted a Shoreline Management Plan (SMP) as required by article 103. The SMP was developed in consultation with the Plumas National Forest, Plumas County, and board members of the Bucks Lake Homeowners Association. Its purpose is to provide guidance for the management of the shoreline at Bucks Lake. The SMP addresses shoreline uses and issues relating to public recreation, shoreline alteration, vegetation management, and commercial development. It also includes rules and regulations for residential use and boat docking facilities, and a natural hazard safety plan.

l. This filing is available for review at the Commission in the Public Reference Room or may be viewed on the Commission's Web site at http://www.ferc.gov using the “eLibrary” link. Enter the docket number excluding the last three digits in the docket number field to access the document. For assistance, contact FERC Online Support at FERCOnlineSupport@ferc.gov or call toll-free 1-866-208-3676, or for TTY, call (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E7-1137 Filed 1-25-07; 8:45 am]

BILLING CODE 6717-01-P